NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by October 18, 2019. This application may be inspected by interested parties at the Permit Office, address below.

ADDRESSES: Comments should be addressed to Permit Office, Office of Polar Programs, National Science Foundation, 2415 Eisenhower Avenue, Alexandria, Virginia 22314.

FOR FURTHER INFORMATION CONTACT: Nature McGinn, ACA Permit Officer, at the above address, 703-292-8030, or ACApermits@nsf.gov.

SUPPLEMENTARY INFORMATION: The National Science Foundation, as directed by the Antarctic Conservation Act of 1978 (Pub. L. 95-541, 45 CFR 670), as amended by the Antarctic Science, Tourism and Conservation Act of 1996, has developed regulations for the establishment of a permit system for various activities in Antarctica and designation of certain animals and certain geographic areas a requiring special protection. The regulations establish such a permit system to designate Antarctic Specially Protected Areas.

Application Details

Permit Application: 2020-005

1. Applicant: Grant Ballard, Point Blue Conservation Science, 3820 Cypress Dr #11, Petaluma, CA 94954.

Activity for Which Permit is Requested: Take, Harmful Interference, Enter Antarctic Specially Protected Areas (ASPAs). The applicant proposes to enter ASPAs at Cape Royds, ASPA 121, and Cape Crozier, ASPA 124, to conduct surveys of the Adelie penguin colonies via remotely piloted aircraft systems (RPAS). The areas would be accessed by helicopters and the ASPAs would be entered on foot. In order to survey the large colonies in a timely manner, the applicant proposes to employ multiple, self- and collectively-aware remotely piloted aircraft simultaneously. The RPAS will be piloted by a trained, experienced, and certified operator and the operations will also involve additional visual observers. Test flights of the system will be conducted prior to Antarctic deployment and in Antarctica in an area in which there is minimal risk to wildlife or sensitive environments. For the surveys, the RPAS launch site would be at least 20 meters away from nesting birds and the RPAS would be operated at altitudes of 30-80 meters above ground level to help ensure minimal disturbance. Surveys at Cape Crozier have the potential to disturb south polar skuas nesting near the penguin colony. Images obtained from the surveys would be used to estimate the number of nesting adults and chicks, as well as nesting density.

Location: ASPA 121, Cape Royds, Ross Island; ASPA 124, Cape Crozier, Ross Island.

Dates of Permitted Activities: November 10, 2019—September 30, 2020.

Permit Application: 2020-007

2. Applicant: Peter West, National Science Foundation, Office of Polar Programs, 2415 Eisenhower Ave, Alexandria VA 22314.

Activity for Which Permit is Requested: Enter Antarctic Specially Protected Areas (ASPAs). The National Science Foundation, as U.S. taxpayer supported government agency, routinely selects members of the U.S. news media to visit Antarctica and report on the science the foundation facilitates there. The newsgathering process requires journalists to visit specific sites and to speak with the researchers conducting science there. Any interviews, photographs or video gathered during visits to ASPAs would be used to inform the general public about the importance of the science conducted on the continent. Visits to the ASPAs listed in this application would take place in conjunction with valid scientific activities, for the express purposes of gathering images, footage, or information on scientific research, general scenic locations, and interviews with scientists working in the field. Journalists visiting Antarctica will be accompanied at all times by an NSF staff “escort”. The escort will be a person who has years of experience working with field parties, with scientists and with journalists. The escort is cognizant of—and will follow the requirements contained in—the ASPA management plans and the Antarctic Conservation Act. They will ensure that every effort is made to practice “low impact” documentary procedures with regard to the natural environment as well as to adhere to all USAP operations and procedures.

Location: ASPA 121, Cape Royds, Ross Island; ASPA 122, Arrival Heights, Hut Point Peninsula, Ross Island; ASPA 124, Cape Crozier, Ross Island; ASPA 131, Canada Glacier, Lake Fryxell, Taylor Valley, Victoria Land; ASPA 155, Cape Evans, Ross Island; ASPA 157, Backdoor Bay, Cape Royds, Ross Island; ASPA 158 Hut Point, Ross Island; ASPA 172, Lower Taylor Glacier and Blood Falls, Taylor Valley, McMurdo Dry Valleys, Victoria Land.

Dates of Permitted Activities: October 31—December 31, 2019.

Permit Application: 2020-008

3. Applicant: Robert Sanders, Department of Biology, Temple University, 1900 N 12th Street, Philadelphia, PA 19122.

Activity for Which Permit is Requested: Introduce Non-indigenous Species into Antarctica. The applicant would use cultures of the bacteria as a food source during a study of Antarctic mixotrophic phytoplankton aboard the research vessel Nathaniel B. Palmer. The bacterial culture is a non-pathogenic marine species (Photobacterium angustum) obtained from American Type Culture Collection. This bacterial species would be used as it has been shown to have the ability to incorporate a thymidine substitute that can be used to identify which phytoplankton have ingested the bacteria. The feeding experiments would be conducted in sealed plastic containers kept isolated from the environment. At the conclusion of the experiments, any sample or culture remaining, including filtered seawater, would be destroyed by autoclaving on the ship. Supplies and equipment would be sterilized at the end of each experiment by autoclaving or using ethanol. The applicant and permit agents are experienced in using sterile techniques and in maintaining safe practices with microbial cultures.

Location: West Antarctic Peninsula region.

Dates of Permitted Activities: November 1-December 28, 2019.

Erika N. Davis,
Program Specialist, Office of Polar Programs.

[FR Doc. 2019-20142 Filed 9-17-19; 8:45 am]

BILLING CODE 7555-01-P